FEDERAL COMMUNICATIONS COMMISSION

47 CFR Parts 1 and 63

[IB Docket No. 16-155; FCC 20-133; FR ID 238500]

Process Reform for Executive Branch Review of Certain FCC Applications and Petitions Involving Foreign Ownership

AGENCY: Federal Communications Commission.

ACTION: Final rule; announcement of effective date.

SUMMARY: In this document, the Commission announces that the Office of Management and Budget has approved revisions to the information collection requirements under OMB Control Numbers 3060-0686, 3060-0944 and 3060-1163, as associated with rules and procedures that improve the timeliness and transparency of the process by which it seeks the review of executive branch agencies for certain applications with foreign ownership. IB Docket No. 16-155; FCC 20-133.

DATES: The amendments to 47 CFR 1.767, 1.5001, 1.40001(a)(2) and (3), 1.40003, 63.12, 63.18 and 63.24, published at 85 FR 76360 on November 27, 2020, are effective on August 19, 2024.

FOR FURTHER INFORMATION CONTACT: Cathy Williams, Office of the Managing Director, Federal Communications Commission, at (202) 418-2918 or Cathy.Williams@fcc.gov.

SUPPLEMENTARY INFORMATION: This document announces that the Office of Management and Budget (OMB) approved the information collection requirements in 47 CFR 1.767, 1.5001, 1.40001(a)(2) and (3), 1.40003, 63.12, 63.18 and 63.24 on May 9, 2024 and May 29, 2024. These rule sections were adopted in the Process Reform for Executive Branch Review of Certain FCC Applications and Petitions Involving Foreign Ownership, FCC 20-133. The Commission publishes this document as an announcement of the effective date for these amended rules.

If you have any comments on the burden estimates listed below, or how the Commission can improve the collections and reduce any burdens caused thereby, please contact Cathy Williams, Federal Communications Commission, Room 3.317, 45 L Street NE, Washington, DC 20554, regarding OMB Control Numbers 3060-0686, 3060-0944 and 3060-1163. Please include the OMB Control Number in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the Commission is notifying the public that it received final OMB approval on May 9, 2024 and May 29, 2024 for the information collection requirements contained in 47 CFR 1.767, 1.5001, 1.40001(a)(2) and (3), 1.40003, 63.12, 63.18 and 63.24. Under 5 CFR part 1320, an agency may not conduct or sponsor a collection of information unless it displays a current, valid OMB Control Number.

No person shall be subject to any penalty for failing to comply with a collection of information subject to the Paperwork Reduction Act that does not display a current, valid OMB Control Number. The OMB Control Numbers for the information collection requirements in 47 CFR 1.767, 1.5001, 1.40001(a)(2) and (3), 1.40003, 63.12, 63.18 and 63.24 are 3060-0686, 3060-0944 and 3060-1163.

The foregoing notice is required by the Paperwork Reduction Act of 1995, Public Law 104-13, October 1, 1995, and 44 U.S.C. 3507.

The total annual reporting burdens and costs for the respondents are as follows:

OMB Control Number: 3060-0686.

Title: International Section 214 Authorizations, 47 CFR 63.10-63.25, 1.40001,1.40003.

Form Number: FCC Forms 214 and 225.

Respondents: Business or other for-profit entities.

Number of Respondents and Responses: 192 respondents; 614 responses.

Estimated Time per Response: 1 hour to 120 hours.

Frequency of Response: On occasion, annual and quarterly reporting requirements, third party disclosure requirement, and recordkeeping requirement.

Total Annual Burden: 2,393 hours.

Total Annual Costs: $874,045.

Obligation to Respond: Required to obtain or retain benefits. The statutory authority for part 1 of this information collection is contained in 47 U.S.C. 151, 154(i), 154(j), 155, 225, 303(r), 309, and 325(e). The statutory authority for part 63 of this information collection is contained in sections 1, 4(j), 10, 11, 201-205, 214, 218, 403, and 651 of the Communications Act of 1934, as amended.

Needs and Uses: The 2020 Executive Branch Review Order creates new requirements associated with certain applications, including international section 214 applications with reportable foreign ownership, that will be reviewed by the relevant Executive Branch agencies for national security, law enforcement, foreign policy, and trade policy issues as well as other changes.

In the 2020 Executive Branch Review Order, the Commission adopted rules and procedures to facilitate a more streamlined and transparent review process for coordinating applications with the Executive Branch agencies. The Commission also established firm time frames for the Executive Branch agencies to complete their review consistent with Executive Order 13913, which established the Committee for the Assessment of Foreign Participation in the United States Telecommunications Services Sector (the Committee). Specifically, under the new rules, the Committee has 120 days for initial review, plus an additional 90 days for secondary assessment if the Committee determines that the risk to national security or law enforcement interests cannot be mitigated with standard mitigation measures. The Commission also adopted and codified five categories of information for which applicants must provide detailed and comprehensive information to the Committee.

In the 2021 Executive Branch Second Order, the Commission adopted the Standard Questions—a baseline set of national security and law enforcement questions covering the five categories of information described above. The responses to the Standard Questions will replace the information that applicants currently provide to the Committee on an individualized basis. The Standard Questions consist of six separate questionnaires (based on subject matter) and a supplement for the provision of personally identifiable information (PII). Two of these questionnaires and the PII supplement are applicable to international section 214s. International section 214 applicants with reportable foreign ownership will be required to answer the questions, and file their responses, as well as a copy of the FCC application, directly with the Committee.

OMB Control Number: 3060-0944.

Title: Cable Landing License Act, 47 CFR 1.767, 1.768, 1.40001, 1.40003, Executive Order 10530.

Form Number: FCC Form 220.

Respondents: Business and other for profit entities.

Number of Respondents and Responses: 41 respondents; 118 responses.

Estimated Time per Response: 1 hour to 120 hours.

Frequency of Response: On occasion reporting requirement, Quarterly reporting requirement, Recordkeeping requirement and third-party disclosure requirement.

Total Annual Burden: 960 hours.

Total Annual Cost: $340,255.

Obligation to Respond: Required to obtain or retain benefits. The statutory authority for this information collection is contained in the Submarine Cable Landing License Act of 1921, 47 U.S.C. 34-39, Executive Order 10530, Executive Order 13913, section 5(a), and the Communications Act of 1934, as amended, 47 U.S.C. 151, 152, 154(i)-(j), 155, 303(r), 309, and 403.

Needs and Uses: The 2020 Executive Branch Review Order creates new requirements associated with certain applications, including submarine cable applications, with reportable foreign ownership that will be reviewed by the relevant Executive Branch agencies for national security, law enforcement, foreign policy and trade policy issues as well as other changes.

In the 2020 Executive Branch Review Order, the Commission adopted rules and procedures to facilitate a more streamlined and transparent review process for coordinating applications with the Executive Branch agencies. The Commission also established firm time frames for the Executive Branch agencies to complete their review consistent with Executive Order 13913, which established the Committee for the Assessment of Foreign Participation in the United States Telecommunications Services Sector (the Committee). Specifically, under the new rules, the Committee has 120 days for initial review, plus an additional 90 days for secondary assessment if the Committee determines that the risk to national security or law enforcement interests cannot be mitigated with standard mitigation measures. The Commission also adopted and codified five categories of information for which applicants must provide detailed and comprehensive information to the Committee.

In the 2021 Executive Branch Second Order, the Commission adopted the Standard Questions—a baseline set of national security and law enforcement questions covering the five categories of information described above. The responses to the Standard Questions will replace the information that applicants currently provide to the Committee on an individualized basis. The Standard Questions consist of six separate questionnaires (based on subject matter) and a supplement for the provision of personally identifiable information (PII). Two of these questionnaires and the PII supplement are applicable to submarine cables. Submarine cable applicants with reportable foreign ownership will be required to answer the questions and file their responses as well as a copy of the FCC application, directly with the Committee.

OMB Control Number: 3060-1163.

Title: 47 CFR 1.5001-1.5004 Regulations Applicable to Broadcast, Common Carrier, and Aeronautical Radio Licensees Under Section 310(b) of the Communications Act of 1934, as amended; 47 CFR 1.40001, 1.40003.

Form Number: FCC Form 235.

Respondents: Business and other for profit entities.

Number of Respondents and Responses: 20 respondents; 52 responses.

Estimated Time per Response: 1 hour to 120 hours.

Frequency of Response: On occasion reporting requirement.

Total Annual Burden: 1,219 hours.

Total Annual Cost: $407,000.

Obligation to Respond: Required to obtain or retain benefits. The statutory authority for Part 1 of this information collection is contained in 47 U.S.C. 151, 154(i), 154(j), 155, 225, 303(r), 309, and 325(e).

Needs and Uses: The 2020 Executive Branch Review Order creates new requirements associated with certain applications, including section 310(b) petitions that will be reviewed by the relevant Executive Branch agencies for national security, law enforcement, foreign policy, and trade policy issues as well as other changes.

In the 2020 Executive Branch Review Order, the Commission adopted rules and procedures to facilitate a more streamlined and transparent review process for coordinating applications with the Executive Branch agencies. The Commission also established firm time frames for the Executive Branch agencies to complete their review consistent with Executive Order 13913, which established the Committee for the Assessment of Foreign Participation in the United States Telecommunications Services Sector (the Committee). Specifically, under the new rules, the Committee has 120 days for initial review, plus an additional 90 days for secondary assessment if the Committee determines that the risk to national security or law enforcement interests cannot be mitigated with standard mitigation measures. The Commission also adopted and codified five categories of information for which applicants must provide detailed and comprehensive information to the Committee.

In the 2021 Executive Branch Second Order, the Commission adopted the Standard Questions—a baseline set of national security and law enforcement questions covering the five categories of information described above. The responses to the Standard Questions will replace the information that applicants currently provide to the Committee on an individualized basis. The Standard Questions consist of six separate questionnaires (based on subject matter) and a supplement for the provision of personally identifiable information (PII). Petitioners will be required to submit their responses to the Standard Questions and a copy of the section 310(b) petition, directly with the Committee. Broadcast petitioners will be required to answer Standard Questions specific to broadcast licensees and common carrier wireless petitioners will be required to answer Standard Questions specific to common carrier licenses as well as a general PII supplement applicable to all respondents to the Standard Questions.

Federal Communications Commission.
Marlene Dortch,
Secretary.

[FR Doc. 2024-18604 Filed 8-22-24; 8:45 am]

BILLING CODE 6712-01-P